DEPARTMENT OF ENERGY

Federal Energy Regulatory Commission

Sunshine Act Meetings

TIME AND DATE: January 20, 2022, 10 a.m.

PLACE: Open to the public via audio Webcast only. Join FERC online to listen live at http://ferc.capitolconnection.org/.

STATUS: Open.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at https://elibrary.ferc.gov/eLibrary/search using the eLibrary link.

1086th—Meeting
[Open Meeting; January 20, 2022, 10 a.m.]
Item No. | Docket No. | Company
Administrative
A-1 | AD22-1-000 | Agency Administrative Matters.
A-2 | AD22-2-000 | Customer Matters, Reliability, Security and Market Operations.
Electric
E-1 | RM22-3-000 | Internal Network Security Monitoring for High and Medium Impact Bulk Electric System Cyber Systems.
E-2 | ER19-105-005 | PJM Interconnection, L.L.C.
E-3 | ER22-461-000; ER22-462-000 | Midcontinent Independent System Operator, Inc.
E-4 | ER22-474-000 | Talen Energy Marketing, LLC.
| ER22-539-000 | EF Kenilworth LLC.
| ER22-550-000 | Chambersburg Energy, LLC.
| ER22-551-000 | Rockford Power, LLC.
| ER22-552-000 | Rockford Power II, LLC.
| ER22-553-000 | Troy Energy, LLC.
| ER22-554-000 | LSP University Park, LLC.
| ER22-555-000 | University Park Energy, LLC.
| ER22-681-000 | Exelon Generation Company, LLC.
| ER22-704-000 (not consolidated) | Energy Center Dover, LLC and Monitoring Analytics, LLC.
| EL22-22-000 | PJM Interconnection, L.L.C.
E-5 | ER20-1828-000; ER20-1828-001; ER20-1828-002 | PacifiCorp.
E-6 | ER21-2778-000 | UGI Corporation.
E-7 | ER20-1832-001 | PJM Interconnection, L.L.C., Duke Energy Ohio, Inc., and Duke Energy Kentucky, Inc.
E-8 | ER21-1215-002 | Assembly Solar I, LLC.
E-9 | ER20-2541-001 | Entergy Louisiana, LLC.
E-10 | ER22-448-000 | Northern Indiana Public Service Company LLC, Indiana Crossroads Solar Generation LLC, and Meadow Lake Solar Park LLC.
| ER22-449-000 | Northern Indiana Public Service Company LLC, Dunn's Bridge I Solar Generation LLC, and Dunns Bridge Solar Center, LLC.
E-11 | ER20-1090-000; ER20-1961-000; ER20-1961-001 | NorthWestern Corporation. Southwest Power Pool, Inc.
E-12 | EC21-56-000 | Duke Energy Indiana, LLC, and GIC Infra Holdings Pte. Ltd.
E-13 | EL21-79-000 | Illinois Municipal Electric Agency v. PJM Interconnection, L.L.C.
E-14 | EL21-90-000 | Basin Electric Power Cooperative and North Iowa Municipal Electric Cooperative Association v. Southwest Power Pool, Inc.
E-15 | EL21-47-001 | Green Development, LLC v. New England Power Company and Narragansett Electric Company.
E-16 | EL22-12-000 | Persimmon Creek Wind Farm 1, LLC.
E-17 | EL19-47-000 | Independent Market Monitor for PJM v. PJM Interconnection, L.L.C.
| EL19-63-000 | Office of the People's Counsel for the District of Columbia, Delaware Division of the Public Advocate, Citizens Utility Board, Indiana Office of Utility Consumer Counselor, Maryland Office of People's Counsel, Pennsylvania Office of Consumer Advocate, West Virginia Consumer Advocate Division, and PJM Industrial Customer Coalition v. PJM Interconnection, L.L.C.
| ER21-2444-000; ER21-2877-000 | PJM Interconnection, L.L.C.
Gas
G-1 | RM20-14-001 | Five-Year Review of the Oil Pipeline Index.
G-2 | RP21-1001-001; RP21-1001-000 | Texas Eastern Transmission, LP.
Hydro
H-1 | P-2883-009 | Aquenergy Systems, LLC.
H-2 | P-3023-014 | Blackstone Hydro, Inc.
H-3 | P-9985-033 | Rivers Electric Company, Inc. and Rivers Electric LLC.
Certificates
C-1 | IN19-4-000 | Rover Pipeline, LLC and Energy Transfer Partners, L.P.
C-2 | CP16-9-011; CP16-9-012 | Algonguin Gas Transmission, LLC and Maritimes & Northeast Pipeline, L.L.C.
C-3 | CP18-46-004 | Adelphia Gateway, LLC.
C-4 | CP15-490-002 | Delfin LNG LLC.

The public is invited to listen to the meeting live at http://ferc.capitolconnection.org/. Anyone with internet access who desires to hear this event can do so by navigating to www.ferc.gov's Calendar of Events and locating this event in the Calendar. The event will contain a link to its audio webcast. The Capitol Connection provides technical support for this free audio webcast. It will also offer access to this event via phone bridge for a fee. If you have any questions, visit http://ferc.capitolconnection.org/ or contact Shirley Al-Jarani at 703-993-3104.

Issued: January 13, 2022.
Kimberly D. Bose,
Secretary.

[FR Doc. 2022-01040 Filed 1-14-22; 4:15 pm]

BILLING CODE 6717-01-P